FEDERAL COMMUNICATIONS COMMISSION

47 CFR Part 73

[DA 03-2574; MB Docket No. 03-181; RM-10758]

Radio Broadcasting Services; Blanchard and Weatherford, OK

AGENCY: Federal Communications Commission.

ACTION: Proposed rule.

SUMMARY: The Audio Division requests comment on a petition filed by Wright Broadcasting Systems, Inc., licensee of FM Station KWEY, Channel 247C1, Weatherford, Oklahoma. Petitioner proposes to change the community of license for KWEY-FM from Weatherford to Blanchard, Oklahoma, as a first local service, to change the corresponding channel allotment from Channel 247C1 to Channel 247A, and to modify the license of KWEY-FM accordingly. Channel 247A can be allotted to Blanchard in compliance with the Commission's minimum distance separation requirements with a site restriction of 2.1 km (1.3 miles) southwest of Blanchard. The coordinates for Channel 247A at Blanchard are 35-07-21 North Latitude and 97-40-18 West Longitude.

DATES: Comments must be filed on or before September 22, 2003, and reply comments on or before October 7, 2003.

ADDRESSES: Federal Communications Commission, Washington, DC 20554. In addition to filing comments with the FCC, interested parties should serve counsel for the petitioner as follows: John C. Trent, Putbrese, Hunsaker & Trent, P.C., 100 Carpenter Drive, Suite 100, Post Office Box 217, Sterling, Virginia 20167-0217.

FOR FURTHER INFORMATION CONTACT: Deborah A. Dupont, Media Bureau (202) 418-7072.

SUPPLEMENTARY INFORMATION: This is a synopsis of the Commission's Notice of Proposed Rule Making, MB Docket No. 03-181, adopted July 30, 2003 and released August 1, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Blanchard, Channel 247A, and by removing Channel 247C1 at Weatherford.

Federal Communications Commission.
John A. Karousos,
Assistant Chief, Audio Division, Media Bureau.

[FR Doc. 03-21504 Filed 8-21-03; 8:45 am]

BILLING CODE 6712-01-P